DEPARTMENT OF ENERGY

Federal Energy Regulatory Commission

[Docket No. CP03-352-000]

Southern Star Central Gas Pipeline, Inc; Notice of Application

September 17, 2003.

Take notice that on September 12, 2003, Southern Star Central Gas Pipeline, Inc. (Southern Star), filed an application pursuant to Section 7(c) of the Natural Gas Act (NGA) for a certificate of public convenience and necessity to convert its existing pipeline and compression facilities extending from Lone Jack, Missouri, to St. Peters, Missouri, from Natural Gas Policy Act (NGPA) Section 311 authority to NGA Section 7 authority, all as more fully set forth in the application which is on file with the Commission and open to public inspection.

Southern Star states that the NGPA Section 311 facilities to be converted to NGA Section 7 authority currently serve Laclede Gas Company (Laclede) in its service areas west of St. Louis, Missouri, but also interconnect with other Southern Star NGA Section 7 facilities that provide additional firm transportation service to all customers north of Southern Star's Concordia station.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 16, 2003.

Magalie R. Salas,
Secretary.

[FR Doc. 03-24228 Filed 9-24-03; 8:45 am]

BILLING CODE 6717-01-P